DEPARTMENT OF THE TREASURY

Agency Information Collection Activities; Submission for OMB Review; Comment Request; Multiple Alcohol and Tobacco Tax and Trade Bureau Information Collection Requests

AGENCY: Departmental Offices, U.S. Department of the Treasury.

ACTION: Notice of information collection; request for comment.

SUMMARY: The Department of the Treasury will submit the following information collection requests to the Office of Management and Budget (OMB) for review and clearance in accordance with the Paperwork Reduction Act of 1995, on or after the date of publication of this notice. The public is invited to submit comments on these requests.

DATES: Comments should be received on or before January 26, 2024 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Alcohol and Tobacco Tax and Trade Bureau (TTB)

(1.) Title: Brewer's Notices; and Letterhead Applications and Notices Filed by Brewers.

OMB Control Number: 1513-0005.

Type of Review: Extension without change of a currently approved collection.

Description: The Internal Revenue Code (IRC) at 26 U.S.C. 5401 requires brewers to file a notice of intent to operate a brewery, containing the information the Secretary of the Treasury prescribes by regulation. In addition, the IRC at 26 U.S.C. 5411, 5412, 5414, 5415, and 5417, authorizes certain other uses of and operations at breweries under regulations issued the Secretary. Under those IRC authorities, the TTB regulations in 27 CFR part 25, Beer, require new brewery applicants to submit TTB F 5130.10, Brewer's Notice, which provides TTB with information similar to that collected on a permit application; require brewers to submit an amended Brewer's Notice when certain changes occur to the brewery's ownership, control, location, description, and bond or operating status; and require brewers to submit letterhead applications or notices regarding certain changes in brewery operations and the destruction, loss, or return of beer. The TTB part 25 regulations also require brewers to maintain a permanent file at their premises containing their Brewer's Notice, its incorporated supporting documents, and the related letterhead applications and notices, available for inspection by TTB officers. This information collection request is necessary to protect the revenue and ensure that brewers conduct their operations in compliance with relevant Federal laws and regulations.

Form: TTB F 5130.10.

Affected Public: Businesses or other for-profits.

Estimated Number of Respondents: 7,820.

Frequency of Response: On occasion.

Estimated Total Number of Annual Responses: 10,320.

Estimated Time per Response: Varies from 30 minutes to 3 hours.

Estimated Total Annual Burden Hours: 10,870.

(2.) Title: Application for an Alcohol Fuel Producer Permit Under 26 U.S.C. 5181.

OMB Control Number: 1513-0051.

Type of Review: Extension without change of a currently approved collection.

Description: Under the authority of the Internal Revenue Code at 26 U.S.C. 5181(a)(1), persons wishing to establish a distilled spirits plant for the sole purpose of producing and receiving distilled spirits for fuel use must provide an application and bond as the Secretary of the Treasury may prescribe by regulation. Under this authority, TTB has issued regulations concerning the establishment of such alcohol fuel plants (AFPs) in 27 CFR part 19, subpart X. Those regulations require that a person wishing to establish a new AFP must submit an application for an alcohol fuel producer permit using form TTB F 5110.74. The regulations also require existing AFP proprietors to use that same form to make certain amendments to their permit information. TTB F 5110.74 and its required supporting documents identify or describe, among other things, the applicant, the proposed AFP's location and layout, its stills, its size category (small, medium, or large) based on the amount of alcohol fuel to be produced annually, and the security measures to be taken to prevent theft and diversion of the distilled spirits produced. The collected information allows TTB to determine the applicant's eligibility under the IRC to obtain or modify an alcohol fuel producer permit, and to determine whether the applicant's AFP operations will conform to Federal law and regulations. Such determinations are necessary to protect the revenue as distilled spirits produced at an AFP are potable and thus subject to Federal excise tax until denatured for fuel use. Once distilled spirits are denatured at an AFP, the resulting alcohol fuel may be withdrawn free of tax as authorized by the IRC at 26 U.S.C. 5214(a)(12).

Form: TTB F 5110.74.

Affected Public: Businesses or other for-profits.

Estimated Number of Respondents: 75.

Frequency of Response: On occasion.

Estimated Total Number of Annual Responses: 75.

Estimated Time per Response: 1 hour 36 minutes.

Estimated Total Annual Burden Hours: 96.

Authority: 44 U.S.C. 3501 et seq.

Spencer W. Clark,
Treasury PRA Clearance Officer.

[FR Doc. 2023-28524 Filed 12-26-23; 8:45 am]

BILLING CODE 4810-31-P